DEPARTMENT OF COMMERCE

Foreign-Trade Zones Board

[B-63-2012]

Foreign-Trade Zone 133—Quad-Cities, Iowa/Illinois Application for Reorganization Under Alternative Site Framework

An application has been submitted to the Foreign-Trade Zones (FTZ) Board (the Board) by the Quad-City Foreign-Trade Zone, Inc., grantee of FTZ 133, requesting authority to reorganize the zone under the alternative site framework (ASF) adopted by the Board (15 CFR 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally filed on August 8, 2012.

FTZ 133 was approved by the Board on October 29, 1986 (Board Order 338, 51 FR 40238, 11-5-1986) and expanded on March 31, 2011 (Board Order 1749, 76 FR 19746, 4-8-2011).

The current zone includes the following sites: Site 1 (223 acres)—River Cities Industrial Center, 200 East 90th Street, Davenport, Iowa; Site 2 (33 acres)—Rock Island Arsenal, 1775 East Street, Rock Island, Illinois; Site 3 (55 acres)—Modern Warehousing, 801 1st Street East, Milan, Illinois; Site 4 (200 acres)—Eastern Iowa Industrial Center, Northeast of I-80 and Highway 130, Davenport, Iowa; and, Site 5 (187 acres)—Iowa Research Commerce & Technology Park, Northwest of I-80 and Highway 61, Davenport, Iowa.

The grantee's proposed service area under the ASF would be Henderson, Henry, Mercer, Rock Island and Warren Counties, Illinois as well as Cedar, Clinton, Des Moines, Dubuque, Henry, Jackson, Johnson, Jones, Lee, Louisa, Muscatine, Scott and Washington Counties, Iowa, as described in the application. If approved, the grantee would be able to serve sites throughout the service area based on companies' needs for FTZ designation. The proposed service area is within and adjacent to the Davenport, Iowa-Moline and Rock Island, Illinois Customs and Border Protection port of entry.

The applicant is requesting authority to reorganize its existing zone project to include all of the existing sites as “magnet” sites. The ASF allows for the possible exemption of one magnet site from the “sunset” time limits that generally apply to sites under the ASF, and the applicant proposes that Site 1 be so exempted. No subzones/usage-driven sites are being requested at this time. The application would have no impact on FTZ 133's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is October 15, 2012. Rebuttal comments in response to material submitted during the foregoing period may be submitted during the subsequent 15-day period to October 29, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: August 8, 2012.
Andrew McGilvray,
Executive Secretary.

[FR Doc. 2012-19946 Filed 8-14-12; 8:45 am]

BILLING CODE 3510-DS-P